DEPARTMENT OF TRANSPORTATION

Federal Aviation Administration

Public Notice for Waiver of Aeronautical Land-Use Assurance

AGENCY: Federal Aviation Administration (FAA), DOT.

ACTION: Notice of intent of waiver with respect to land; Chicago Midway International Airport, Chicago, Illinois.

SUMMARY: The FAA is considering a proposal to change 0.189 acres of airport land from aeronautical use to non-aeronautical use and to authorize the sale of airport property located at 5321 South Menard Avenue, Chicago, Illinois. The land is located off airport in a residential zoned area in Chicago, IL. This land is to be sold at Fair Market Value (FMV) to a locally-based business to be used as a parking lot. The land was purchased with federal funds under the Federal Aid to Airports Program (FAAP) and currently not used for aeronautical purposes. FAR Part 77, Right of Flight, and other compatible aeronautical land-uses would continue to be protected with deed restrictions required in the transfer of land ownership. The property is no longer needed for aeronautical use.

DATES: Comments must be received on or before February 16, 2017.

ADDRESSES: Documents are available for review by appointment at the FAA Chicago Airports District Office, Al Richardson, Program Manager, 2300 East Devon Avenue, Des Plaines, IL 60018, Telephone: (847) 294-7436/Al.Richardson@faa.gov; or at the Chicago Midway International Airport, Adam Rod, 10510 West Zemke Road, Chicago, IL 60666, 773-894-6907. Written comments on the Sponsor's request must be delivered or mailed to: Al Richardson, Program Manager, Federal Aviation Administration, Chicago Airports District Office, 2300 East Devon Avenue, Des Plaines, IL 60018, Telephone Number: (847) 294-7436/FAX Number: (847) 294-7046.

FOR FURTHER INFORMATION CONTACT: Al Richardson, Program Manager, Federal Aviation Administration, Chicago Airports District Office, 2300 East Devon Avenue, Des Plaines, IL 60018. Telephone Number: (847) 294-7436/Al.Richardson@faa.gov/FAX Number: (847) 294-7046.

SUPPLEMENTARY INFORMATION: In accordance with section 47107(h) of Title 49, United States Code, this notice is required to be published in the Federal Register 30 days before modifying the land-use assurance that requires the property to be used for an aeronautical purpose.

The property was acquired by the City of Chicago Department of Aviation under the Federal Aid to Airports Program (FAAP) and currently not used for aeronautical purposes. This land is to be sold at Fair Market Value (FMV) to a locally-based business to be used as a parking lot. The land was purchased with federal funds under the Federal Aid to Airports Program (FAAP) and currently not used for aeronautical purposes. FAR Part 77, Right of Flight, and other aeronautical compatible land-uses will be protected by deed restrictions in the land transfer agreement.

The disposition of proceeds from the sale of the airport property will be in accordance with FAA's Policy and Procedures Concerning the Use of Airport Revenue, published in the Federal Register on February 16, 1999 (64 FR 7696).

This notice announces that the FAA is considering the release of the subject airport property at the Chicago Midway International Airport, Chicago, Illinois from its obligations to be maintained for aeronautical purposes. Approval does not constitute a commitment by the FAA to financially assist in the change in use of the subject airport property nor a determination of eligibility for grant-in-aid funding from the FAA.

Property Description: Lots 21 and 22 in block 20 in Crane Archer Avenue addition to Chicago, a subdivision of that part of the Southeast ¼ of Section 8, Township 38 North, Range 13, east of the Third Principal Meridian, lying North of Center Line of Archer Avenue, in Cook County, Illinois.

Issued in Chicago, IL, on January 3, 2017.
James G. Keefer,
Manager, Chicago Airports District Office FAA, Great Lakes Region.

[FR Doc. 2017-00753 Filed 1-13-17; 8:45 am]

BILLING CODE 4910-13-P